ENVIRONMENTAL PROTECTION AGENCY

[FRL-9979-27-OARM]

National Advisory Council for Environmental Policy and Technology; Renewal of Charter

AGENCY: Environmental Protection Agency (EPA).

ACTION: Notice of charter renewal.

SUMMARY: Notice is hereby given that the Environmental Protection Agency (EPA) has determined that, in accordance with the provisions of the Federal Advisory Committee Act (FACA), the National Advisory Council for Environmental Policy and Technology (NACEPT) is necessary and in the public interest in connection with the performance of duties imposed on the agency by law. Accordingly, NACEPT will be renewed for an additional two-year period. The purpose of NACEPT is to provide advice and recommendations to the Administrator of EPA on a broad range of environmental policy, technology and management issues.

FOR FURTHER INFORMATION CONTACT: Eugene Green, Designated Officer, U.S. EPA, (Mail Code 1601M), 1200 Pennsylvania Avenue NW, Washington, DC 20460, telephone (202) 564-2432, or green.eugene@epa.gov.

Dated: June 4, 2018.
Donna J. Vizian,
Principal Deputy Assistant Administrator, Office of Administration and Resources Management.

[FR Doc. 2018-13352 Filed 6-20-18; 8:45 am]

BILLING CODE 6560-50-P